ENVIRONMENTAL PROTECTION AGENCY

[ER-FRL-6630-6]

Environmental Impact Statements; Notice of Availability

Responsible Agency: Office of Federal Activities, General Information (202) 564-7167 or http://www.epa.gov/compliance/nepa/.

Weekly receipt of Environmental Impact Statements

Filed June 17, 2002 Through June 21, 2002

Pursuant to 40 CFR 1506.9.

EIS No. 020243, DRAFT EIS, COE, CA, Imperial Beach Shore Protection Project, To Provide Shore Protection and to Prevent Damage to Adjacent Beachfront Structures, Silver Strand Shoreline, City of Imperial Beach, San Diego County, CA, Comment Period Ends: August 12, 2002, Contact: Stephanie Hall (213) 452-3862.

EIS No. 020251, DRAFT EIS, AFS, MT, Post Fire Vegetation and Fuels Management Project, Proposing Fuel Reduction, Bark Beetle Sanitation, and the Maintenance, and/or Restoration of Vegetative Communities, Beaverhead Deerlodge National Forest, Wisdom and Pintler Ranger Districts, Beaverhead and Deerlodge Counties, MT, Comment Period Ends: August 12, 2002, Contact: Amy Nerbun (406) 683-3948.

EIS No. 020252, DRAFT EIS, FHW, IA, Avenue G Viaduct and Connecting Corridor, To Improve Access for Local Emergency Services and Safety Through Expanded Capacity across the Trail Corridor, Funding and NPDES Permit, Pottawattamie County, IA, Comment Period Ends: August 12, 2002,Contact: Bobby Blackmon (515) 233-7300.

EIS No. 020253, DRAFT EIS, AFS, CA, Sirretta Peak Trail Project, To Explore Locations for the Construction of Trail Routes Open to Off-Highway Vehicles, New Information Relating to the Sierra Nevada Forest Plan Amendment, Cannell Meadow Ranger District, Sequoia National Forest, Tulare County, CA, Comment Period Ends: August 12, 2002, Contact: Chris Ryan (661) 391-6107.

EIS No. 020254, FINAL EIS, FHW, WV, WV-65 Transportation Improvement Project, from Appalachian Corridor G near Belo to US 52 at Naugatuck, Funding and COE Section 404 Permit, Mingo County, WV,Wait Period Ends: August 23, 2002, Contact: Thomas J. Smith (304) 347-5928.

EIS No. 020255, DRAFT SUPPLEMENT, AFS, WY, Squirrel Meadows Grand Targhee Land Exchange Proposal, New Information and Current Environmental and Socioeconomic Conditions, Implementation, Targhee National Forest, Teton County, WY, Comment Period Ends: August 12, 2002, Contact: Cheryl Probert (208) 557-5760.

EIS No. 020256, FINAL EIS, AFS, AK, Helicopter Landing Tours on the Juneau Icefield 2002 to 2006, Combination Fixed-Wing and Helicopter Landing Tour Operations to Antler Glacier Lake, Special Use Permits Issuance, Tongass National Forest, City and Borough of Juneau, AK, Wait Period Ends: July 29, 2002, Contact: Laurie Thorpe (907)790-7439.

EIS No. 020257, DRAFT EIS, AFS, CA, Yosemite Fire Management Plan, Implementation, To Present and Analyze Alternative for Carrying out the Fire Management Program, Yosemite National Park, Sierra Nevada, Mariposa, Tuolumne, Madera and Mono Counties, CA, Comment Period Ends: August 27, 2002, Contact: Jerry Mitchell (303) 969-2219. This document is available on the Internet at: http://www.nps.gov/yose/planning.

EIS No. 020258, FINAL EIS, UAF, CA, EL Rancho Road Bridge Project, Flood-Free Crossing Construction at San Antonia Creek to access from the north of Vandenberg Air Force Base, Santa Barbara County, CA, Wait Period Ends: July 29, 2002, Contact: Maj Cabala (703) 697-1731.

EIS No. 020259, FINAL EIS, FRC, WY, NV, UT, CA, Kern River 2003 Gas Transmission Project, Expansion of the existing (KRGT) Interstate Pipeline System from southwestern Wyoming to southern California, Right-of-Way Grant, NPDES and US Army COE Section 404 Permits Issuance, (FERC Docket NO.CP01-422-000), WY, UT, NV and CA, Wait Period Ends: July 29, 2002, Contact: Michael Boyle (202) 208-0839.

EIS No. 020260, DRAFT EIS, COE, TX, Corpus Christi Ship Channel Channel Improvements Project, To Provide Navigation Safety and Efficiency of the Deep Draft Navigation System, Corpus Christi and Nueces Bay, Nueces and San Patricio Counties, TX, Due: Comment Period Ends: August 12, 2002, Contact: Carolyn Murphy (409) 766-3044.

EIS No. 020261, FINAL EIS, FHW, WA, I-405 Corridor Transportation Improvements, I-5 in the City of Tukwila to I-5 in Snohomish County, Funding and Possible COE Section 404 Permits Issuance, King and Snohomish Counties, WA, Wait Period Ends: July 29, 2002, Contact: James Leonard, (FHWA) (360) 753-9408.

The USDOT's FHWA and FTA are Joint Lead Agencies for this project. John Witmer is the Contact Person for FTA, Phone No. 206-220-7964.

EIS No. 020262, DRAFT EIS, BLM, NM, Farmington Resource Management Plan, Implementation, Managing Public Lands within the Farmington Field Office (FF0) Boundaries and Federal Oil and Gas Resources within the New Mexico Portion of San Juan Basin, San Juan, McKinely, Rio Arriba and Sandoval Counties, NM, Comment Period Ends: September 26, 2002, Contact: Robert Moore (505) 599-6311. This document is available on the Internet at: http://www.nm.blm.gov.

EIS No. 020263, FINAL EIS, AFS, ID, Brush Boulder Project, Proposed Vegetation Management, Road Construction, Reconstruction and Decommissioning, North Fork Payette River, Boise National Forest, Cascade Ranger District, Valley County, ID, Wait Period Ends: July 29, 2002, Contact: David D. Ritterhouse (208) 373-4100.

EIS No. 020264, FINAL EIS, FAA, MA, Logan Airside Improvements Planning Project (EOEA #10458), Construction and Operation of a New Unidirectional Runway 14/32, Centerfield Taxiway and Add'l Taxiway Improvements, New Information, Providing Clarification of the Delay Problems, Boston Int'l Airport, Federal Funding, Airport Layout Plan and NPDES Permit, Boston, MA, Wait Period Ends: July 29, 2002, Contact: John Silva (781) 238-7602.

EIS No. 020265, FINAL EIS, BLM, AZ, Diamond Bar Road Improvement Project, To Pave the Road and Realign Sections through Grapevine Wash, Right-of-Way Permits, Mohave County, AZ, Wait Period Ends: July 29, 2002, Contact: Don McClure (928) 692-4400.

EIS No. 020266, DRAFT EIS, AFS, WA, Quartzite Watershed Management Project, Proposing Watershed Management Activities, Includes Vegetation Management, Riparian/Wetland Management, and Road Management, Colville National Forest, Thomason Sherwood-Cottonwood Creek, Three Rivers Ranger District, Stevens County, WA, Comment Period Ends: August 12, 2002, Contact: Sherri Schwenke (509) 739-7000.

EIS No. 020267, DRAFT EIS, AFS, MT, Moose Post-Fire Project, Proposed to Decrease Potential Mortality from Bark Beetles to Remaining Live Douglas-fir and Spruce Trees, Recover Merchantable Wood Fiber; Reduce Future Fire Risk; and Modify Existing Road Access, Glacier View Ranger District, Flathead National Forest, Flathead County, MT, Comment Period Ends: August 12, 2002, Contact: Michele Draggo (406) 387-3800.

EIS No. 020268, DRAFT SUPPLEMENT, COE, OK, AR, Wister Lake and Poteau River, Operation and Maintenance Program for the Present Conservation Pool Level of 478.0 feet and To Provide Mitigation Measures, LeFlore County, OK and Scott County, AR Comment Period Ends: August 12, 2002, Contact: Jim Randolph (918) 669-4396.

EIS No. 020269, DRAFT SUPPLEMENT, COE, TX, Red River Chloride Control Project, Authorized to Reduce the Natural Occurring Levels of Chloride in the Wichita River Only Portion, North, Middle and South Forks, Wichita River and Red River, Implementation, Tulsa District, Wichita County, TX, Comment Period Ends: August 12, 2002, Contact: Jim Randolph (918) 669-4396. This document is available on the Internet at: http://www.swt.uasce.army.mil/LIBRARY/Library.CFM.

Amended Notices

EIS No. 010305, DRAFT SUPPLEMENT, FAA, MN, Flying Cloud Airport, Substantive Changes to Alternatives and New Information, Extension of the Runways 9R/27L and 9L/27R, Long-Term Comprehensive Development, In the City of Eden Prairie, Hennepin County, MN, Due: August 21, 2002, Contact: Glen Orcutt (612) 713-4354. Revision of FR Notice Published on 08/24/2001: CEQ Review Period Ending on 08/17/2001 has been Extended to 08/21/2002.

Dated: June 25, 2002.
Clifford Rader,
Environmental Protection Specialist, Office of Federal Activities.

[FR Doc. 02-16366 Filed 6-27-02; 8:45 am]

BILLING CODE 6560-50-P